DEPARTMENT OF COMMERCE

Foreign-Trade Zones Board

[B-34-2013]

Foreign-Trade Zone 20—Suffolk, Virginia; Application for Reorganization and Expansion Under the Alternative Site Framework

An application has been submitted to the Foreign-Trade Zones (FTZ) Board (the Board) by the Virginia Port Authority, grantee of FTZ 20, requesting authority to reorganize and expand the zone under the alternative site framework (ASF) adopted by the FTZ Board (15 CFR 400.2(c)). The ASF is an option for grantees for the establishment or reorganization of zones and can permit significantly greater flexibility in the designation of new “subzone/usage-driven” FTZ sites for operators/users located within a grantee's “service area” in the context of the Board's standard 2,000-acre activation limit for a zone. The application was submitted pursuant to the Foreign-Trade Zones Act, as amended (19 U.S.C. 81a-81u), and the regulations of the Board (15 CFR part 400). It was formally filed on April 18, 2013.

FTZ 20 was approved by the Board on April 15, 1975 (Board Order 105, 40 FR 17884, 4/23/75); relocated on January 17, 1977 (Board Order 114, 42 FR 4187, 1/24/77), and on March 16, 1981 (Board Order 173, 46 FR 18063, 3/23/81); and, expanded on May 8, 1997 (Board Order 887, 62 FR 28446, 5/23/97), on July 28, 2000 (Board Order 1113, 65 FR 50179, 8/17/00), on April 5, 2001 (Board Order 1163, 66 FR 20235, 4/20/01), and on May 21, 2010 (Board Order 1683, 75 FR 30782-30783, 6/2/10).

The current zone includes the following sites: Site 1 (22 acres)—Kerma Medical Products, 215 Suburban Drive, Suffolk; Site 2 (10 acres)—Evans Distribution Systems, 324 Moore Avenue, Suffolk; Site 3 (72.3 acres total)—Givens, Inc., 1720 S. Military Highway, Chesapeake; Site 4 (905 acres)—Norfolk International Terminals, 7737 Hampton Boulevard, Norfolk; Site 5 (242 acres)—Portsmouth Marine Terminal, 2000 Seaboard Avenue, Portsmouth; Site 6 (184 acres)—Newport News Marine Terminal, 25th and Warwick Boulevard, Newport News; Site 7 (490 acres)—Warren County Industrial Corridor, Routes 340, 522 and 661, Front Royal; Site 8 (133 acres)—Bridgeway Commerce Park, Interstate 664, Suffolk; Site 9 (689 acres)—Cavalier Industrial Park, Interstate 64 and U.S. Route 12, Chesapeake; Site 10 (26 acres)—D.D. Jones Transfer & Warehouse, Inc., 1920 Campostella Road, Chesapeake; Site 11 (177 acres)—New Boone Farm Industrial Park, Interstate 664, Chesapeake; Site 12 (60 acres)—Port Centre Commerce Park, I-264, Portsmouth; Site 13 (139 acres)—Suffolk Industrial Park, 595 Carolina Road, Suffolk; Site 14 (6187 acres)—Goddard Space Flight Center, Wallops Flight Facility, Wallops Island; Site 15 (449 acres)—Accomack Airport Industrial Park, U.S. Highway 13 and Parkway Road, Melfa; Site 16 (5 acres)—Battlefield Lakes Technical Center, 525 & 533 Byron Street, Chesapeake; Site 17 (4 acres)—Butts Station Commerce Center, 600, 604 & 608 Greentree Road, Chesapeake; Site 18 (130 acres)—Port of Cape Charles Sustainable Technologies Industrial Park, U.S. 13 on SR 1108, Cape Charles; Site 19 (323 acres)—Shirley T. Holland Commerce Park, 25400 Old Mill Road, Windsor; Site 21 (85 acres)—Virginia Regional Commerce Park, 2930 Pruden Boulevard, Suffolk; Site 22 (18 acres)—Port Norfolk Holdings Warehouse, 1157 Production Road, Norfolk; Site 23 (101 acres)—Virginia Commerce Center, 351 Kenyon Road, Suffolk; Site 24 (219 acres)—Westport Commerce Center, Manning Bridge Road, Suffolk; Site 25 (13 acres)—Cargoways Ocean Services, Inc., 631 Carolina Road, Suffolk; Site 32 (7 acres)—PATCO Industries Inc., 1357 Taylor Farm Road, Virginia Beach (expires 10/31/13); and, Site 33 (5 acres)—PATCO Industries, Inc., 2873 Crusader Circle, Virginia Beach (expires 10/31/13). (Sites 1-18 and 25 are subject to a sunset provision of May 31, 2013 and Sites 19 and 21-24 are subject to a sunset provision of May 31, 2015.)

The grantee's proposed service area under the ASF would be the Counties of Accomack, Gloucester, Isle of Wight, James City, Mathews, Northampton, Southampton, Sussex, Surry, and York and the Cities of Chesapeake, Franklin, Hampton, Newport News, Norfolk, Poquoson, Portsmouth, Suffolk, Virginia Beach and Williamsburg, Virginia, as described in the application. If approved, the grantee would be able to serve sites throughout the service area based on companies' needs for FTZ designation. The proposed service area is within and adjacent to the Norfolk-Newport News Customs and Border Protection port of entry.

The applicant is requesting authority to reorganize its existing zone under the ASF as follows: to renumber parcel A of Site 7 as Site 7; to renumber parcel B of Site 7 as Site 27; to renumber parcel C of Site 7 as Site 28; to renumber parcel D of Site 7 as Site 29; to renumber parcel E of Site 7 as Site 30; to renumber parcel F of Site 7 as Site 31; Sites 3, 4, 5, 6, 7, 8, 9, 11, 12, 13, 14, 15, 16, 17, 18, 19, 21, 23, 24, 28, 29, 30 and 31 would become magnet sites; and, Sites 1, 2, 10, 22, 25, 27, 32 and 33 would become “usage-driven” sites. The applicant is also requesting to expand the zone to include a new magnet site: Proposed Site 34 (202 acres)—Suffolk Intermodal Center, 2700 Holland Road, Suffolk and, the following “usage-driven” site: Proposed Site 35 (54 acres)—Katoen Natie Norfolk, Inc., 810 Ford Drive, Norfolk.

The ASF allows for the possible exemption of one magnet site from the “sunset” time limits that generally apply to sites under the ASF, and the applicant proposes that Site 4 be so exempted. The application would have no impact on FTZ 20's previously authorized subzones.

In accordance with the Board's regulations, Kathleen Boyce of the FTZ Staff is designated examiner to evaluate and analyze the facts and information presented in the application and case record and to report findings and recommendations to the Board.

Public comment is invited from interested parties. Submissions shall be addressed to the Board's Executive Secretary at the address below. The closing period for their receipt is June 24, 2013. Rebuttal comments in response to material submitted during the foregoing period may be submitted during the subsequent 15-day period to July 8, 2013.

A copy of the application will be available for public inspection at the Office of the Executive Secretary, Foreign-Trade Zones Board, Room 21013, U.S. Department of Commerce, 1401 Constitution Avenue NW., Washington, DC 20230-0002, and in the “Reading Room” section of the Board's Web site, which is accessible via www.trade.gov/ftz. For further information, contact Kathleen Boyce at Kathleen.Boyce@trade.gov or (202) 482-1346.

Dated: April 18, 2013.
Andrew McGilvray,
Executive Secretary.

[FR Doc. 2013-09696 Filed 4-23-13; 8:45 am]

BILLING CODE P